DEPARTMENT OF AGRICULTURE

Rural Utilities Service

Hertford Renewable Energy, LLC: Notice of Intent To Hold Public Scoping Meetings and Prepare an Environmental Assessment

AGENCY: Rural Utilities Service, USDA.

ACTION: Notice of intent to hold public scoping meetings and prepare an Environmental Assessment (EA).

SUMMARY: The Rural Utilities Service (RUS), an Agency delivering the United States Department of Agriculture (USDA) Rural Development Utilities Programs, hereinafter referred to as Rural Development and/or the Agency, intends to hold public scoping meetings and prepare an Environmental Assessment (EA) in connection with potential impacts related to projects proposed by Hertford Renewable Energy, LLC (HRE), with headquarters in Winter Park, FL. The proposal consists of the construction of a 50 Megawatt (MW) biomass power plant. The proposed power plant would be located in Hertford County, North Carolina on Joe Holloman Road. HRE is requesting the Agency to provide financial assistance for the proposed action.

DATES: The Agency will conduct a Scoping Meeting in an open house format, seeking the input of the public and other interested parties. The meeting will be held from 5 p.m. until 7 p.m., on June 10, 2008. Comments regarding the proposed action may be submitted (orally or in writing) at the public scoping meetings or in writing within 30 days after the scoping meeting to Rural Development at the address provided in this notice.

ADDRESSES: The June 10, 2008, meeting will be held at the Roanoke Chowan Community College, Jernigan Auditorium, 109 Community College Road, Ahoskie, NC 27910, Phone: 252-862-1200. For further information, please contact Stephanie Strength, Environmental Protection Specialist, USDA, Rural Development Utilities Programs, Engineering and Environmental Staff, 1400 Independence Avenue, SW., Stop 1571, Washington, DC 20250-1571, telephone (202) 720-0468, or e-mail stephanie.strength@wdc.usda.gov.

An Electric Alternatives Evaluation and Macro Corridor Study Report, prepared by Hertford Renewable Energy, LLC, will be presented at the public scoping meetings. The Report will be available for public review at the Agency's address provided in this notice, at the Agency's Web site: http://www.usda.gov/rus/water/ees/ea.htm, at Hertford Renewable Energy, LLC, 152 Lincoln Avenue, Winter Park, FL 32789 and at the: Hertford County Library, 303 West Tryon Street, Winton, NC 27986, Phone: 252-358-7855; Ahoskie Public Library, 210 E. Church Street, Ahoskie, NC 27910, Phone: 252-332-5500.

SUPPLEMENTARY INFORMATION: Hertford Renewable Energy, LLC proposes to construct a 50 MW biomass power plant on approximately 93 acres on Joe Holloman Road east of Millennium, NC. A wastewater line may be required off-site. It is anticipated that all of the facilities would be in service in 2011.

Government agencies, private organizations, and the public are invited to participate in the planning and analysis of the proposed project. Representatives from the Agency and Hertford Renewable Energy, LLC will be available at the scoping meeting to discuss the Agency's environmental review process, describe the project, the need for the project, alternatives under consideration, and to discuss the scope of environmental issues to be considered, answer questions, and accept comments. Comments regarding the proposed action may be submitted (orally or in writing) at the public scoping meetings or in writing within 30 days after the June 10, 2008, scoping meeting to Rural Development at the address provided in this notice.

From information provided in the alternative evaluation and site selection study, input that may be provided by government agencies, private organizations, and the public, Hertford Renewable Energy, LLC will use to prepare an environmental analysis to be submitted to the Agency for review. The Agency will use the environmental analysis to determine the significance of the impacts of the project and if acceptable will adopt it as its environmental assessment of the project. The Agency's environmental assessment of the project would be available for review and comment for 30 days.

Should the Agency determine, based on the Environmental Assessment of the project, that the impacts of the construction and operation of the power plant would not have a significant environmental impact, it will prepare a finding of no significant impact. Public notification of a finding of no significant impact would be published in the Federal Register and in newspapers with a circulation in the project area.

Any final action by the Agency related to the proposed project will be subject to, and contingent upon, compliance with environmental review requirements as prescribed by the Agency's environmental policies and procedures (7 CFR part 1794).

Dated: May 20, 2008.
Mark S. Plank,
Director, Engineering and Environmental Staff, USDA/Rural Development Utilities Programs.

[FR Doc. E8-11812 Filed 5-27-08; 8:45 am]

BILLING CODE 3410-15-P